DEPARTMENT OF DEFENSE

Department of the Army, Corps of Engineers

Intent To Prepare a Draft Environmental Impact Statement, and Intent To Conduct Public Scoping Meetings for the Upper Susquehanna River Basin Comprehensive Flood Damage Reduction Study, New York

AGENCY: Department of the Army, U.S. Army Corps of Engineers, DOD.

ACTION: Notice of intent.

SUMMARY: In accordance with the National Environmental Policy Act (NEPA), the Baltimore District, U.S. Army Corps of Engineers (USACE), will prepare a Feasibility Report and EIS comprehensively evaluating flood-risk management (FRM) needs and opportunities in the upper Susquehanna River Basin in New York.

DATES: The public scoping meeting dates are:

1. November 21, 2016, at 1:30 p.m. and 6:30 p.m. in the Hubbard Auditorium of the Tioga County Office Building.

2. November 22, 2016 at 1:30 p.m. and 6:30 p.m. at the Town of Chenango Community Meeting Room.

3. November 30, 2016, at 6:30 p.m. in the Village of Sidney.

ADDRESSES: Two scoping meetings will be held in the Village of Owego on Monday, November 21, 2016, at 1:30 p.m. and 6:30 p.m. in the Hubbard Auditorium of the Tioga County Office Building, 56 Main Street. Two scoping meetings will be held in the Town of Chenango on Tuesday, November 22, 2016 at 1:30 p.m. and 6:30 p.m. at the Town of Chenango Community Meeting Room at 1529 Upper Front Street (NY Route 12). One meeting will be held on November 30, 2016, at 6:30 p.m. in the Village of Sidney in the Memorial Public Library located at 8 River Street.

FOR FURTHER INFORMATION CONTACT: Questions about the proposed scoping meetings, requests to be placed on the project information distribution list, information requests or written comments on the scope of the EIS and the comprehensive FRM study can be addressed to Mr. David W. Robbins, U.S. Army Corps of Engineers, ATTN: CENAB-PL-P, 10 S. Howard Street, Baltimore, MD 21201, telephone 410-962-0685; email address: UpperSRBStudy@usace.army.mil. Please contact me if you wish to speak at the meetings or should you have special needs (sign language interpreters, access needs) at the above address. Information about the study, including public scoping meetings, is available at the study Web site http://www.nab.usace.army.mil/USRB_Feasibility_Study/.

SUPPLEMENTARY INFORMATION: This Notice initiates formal scoping for the Environmental Impact Statement (EIS), provides information on the nature of the proposed Project, invites participation in the EIS process, and identifies potential environmental effects to be considered. It also invites comments from interested members of the public, tribes, and agencies on the scope of the EIS and announces upcoming public scoping meetings. Comments should address (1) feasible alternatives that may better achieve the Project's need and purposes with fewer adverse impacts and (2) any significant environmental impacts relating to the alternatives.

Scoping meeting information will be posted online by Baltimore District via Web site postings and social media. Meeting information will be provided electronically via the study's Web page and in printed form to local libraries, government offices, as well as mailed to interested public.

For all meetings, staff will be available to answer questions. All interested parties are invited to speak at the public meetings. The public scoping peiod will begin on the date of publication of this Notice and will continue through 30 days following the last public scoping meeting.

The study was authorized by a Resolution of the House Committee on Transportation and Infrastructure, on 24 September, 2008. The upper Susquehanna Basin includes the portions of Tioga, Broome, Chenango, Cortland, Otsego, Delaware, Schoharie, Herkimer, Oneida, Madison, Onondaga, Tompkins, Schuyler, and Chemung Counties in the Susquehanna River Watershed of New York upstream of the Chemung River confluence near Waverly. The upper Susquehanna River Basin repeatedly experiences flooding damages, with recent notable events occurring in 2006 and 2011. USACE is undertaking the FRM study in partnership with the New York State Department of Environmental Conservation (NYSDEC).

USACE and NYSDEC are seeking public input to identify areas with flooding concerns which may be of interest to address in the context of the study, and learn of area-specific considerations important in formulating any FRM plans. Study efforts will be coordinated with the Federal Emergency Management Area (FEMA), the U.S. Geological Survey (USGS), as well as other Federal and state agencies and local governments.

An initial conceptual effort will be completed using existing information to identify areas of the basin that currently do not have FRM infrastructure in place and screen these areas for FRM needs and opportunities. The study will evaluate the level of FRM currently provided by existing FRM infrastructure under current conditions and projected future conditions. Within the study area, there are 20 existing USACE FRM projects, as well as other non-Federal FRM projects. The study will investigate FRM strategies to reduce flood risk, as well as reduce residual risk in areas with existing FRM infrastructure. Structural and non-structural FRM will be considered. Hydrologic and hydraulic modeling will be developed for the majority of the Susquehanna River main stem and major tributaries in the basin to aid plan formulation.

The study will be conducted in compliance with applicable federal laws including the Clean Water Act, the Endangered Species Act, the Clean Air Act, the U.S. Fish and Wildlife Coordination Act, the National Historic Preservation Act, and the Farmland Protection Policy Act. All appropriate compliance documentation will be obtained and included as part of the EIS. It is currently anticipated that the study will take three years and may lead to the implementation of one or more FRM projects. The EIS is expected to be publicly released in Spring 2018.

David W. Robbins,
Acting Chief, Civil Project Development Branch, Planning Division.

[FR Doc. 2016-26699 Filed 11-3-16; 8:45 am]

BILLING CODE 3720-58-P